NATIONAL SCIENCE FOUNDATION

Advisory Committee for Technology, Innovation and Partnerships; Cancellation of Meeting

AGENCY: National Science Foundation.

ACTION: Notice; cancellation of meeting dates.

The National Science Foundation published notices in the Federal Register November 15, 2024, in FR Doc. 2024-26634 at 89 FR 90318 and November 20, 2024, in FR Doc. 2024-27057 at 89 FR 91805, concerning meetings of the Advisory Committee for Technology, Innovation and Partnerships. The meetings scheduled for Tuesday, December 10, 2024, at 12 p.m. and Friday, December 13, 2024, at 11 a.m. (ET) are cancelled.

FOR FURTHER INFORMATION CONTACT: Please contact Crystal Robinson crrobins@nsf.gov or 703-292-8687.

Dated: December 5, 2024.
Crystal Robinson,
Committee Management Officer, National Science Foundation.

[FR Doc. 2024-28977 Filed 12-9-24; 8:45 am]

BILLING CODE 7555-01-P